FEDERAL COMMUNICATIONS COMMISSION

47 CFR Part 73

[DA 03-1077; MB Docket No. 02-365; RM-10451]

Radio Broadcasting Services; Laramie, WY and Timnath, CO

AGENCY: Federal Communications Commission.

ACTION: Final rule.

SUMMARY: In response to a proposal filed by Laramie Mountain Broadcasting, L.L.C., licensee of Station KIMX, Laramie, Wyoming, this document reallots Channel 288C2 from Laramie, Wyoming, to Timnath, Colorado, as that community's first local aural transmission service. Prior to submission of its rule making request, petitioner's authorization for Station KIMX(FM) was amended by grant of a one-step application to specify operation on Channel 288C2 at Laramie, Wyoming, instead of Channel 288C3. The FM Table of Allotments has not been amended previously to reflect the higher class substitution at Laramie. Additionally, the authorization for Station KIMX(FM) is modified, as requested. See 68 FR 1586 (2003), January 13, 2003. Coordinates used for Channel 288C2 at Timnath, Colorado, are 40-44-31 NL and 105-14-25 WL, representing a transmitter site 31.9 kilometers (19.8 miles) northwest of the community. The specified site location is within the protected areas of the Table Mountain Radio Receiving Zone, Boulder County, Colorado, and requires compliance with section 73.1030(b) of the Commission's rules. With this action, this docketed proceeding is terminated.

DATES: Effective May 19, 2003.

FOR FURTHER INFORMATION CONTACT: Nancy Joyner, Media Bureau (202) 418-2180.

SUPPLEMENTARY INFORMATION: This is a synopsis of the Commission's Report and Order, MB Docket No. 02-365, adopted April 2, 2003, and released April 4, 2003. The full text of this Commission decision is available for inspection and copying during normal business hours in the FCC's Reference Information Center (Room CY-A257), 445 12th Street, SW., Washington, DC. The complete text of this decision may also be purchased from the Commission's copy contractor, Qualtex International, Portals II, 445 12th Street, SW., Room CY-B402, Washington, DC 20554, telephone (202) 863-2893.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Colorado, is amended by adding Timnath, Channel 288C2.

3. Section 73.202(b), the Table of FM Allotments under Wyoming, is amended by removing Channel 288C3 at Laramie.

Federal Communications Commission.
John A. Karousos,
Assistant Chief, Audio Division, Media Bureau.

[FR Doc. 03-9167 Filed 4-14-03; 8:45 am]

BILLING CODE 6712-01-P